AGENCY FOR INTERNATIONAL DEVELOPMENT

Notice of Advisory Committee Public Meeting; Correction

AGENCY: Agency for International Development (USAID).

ACTION: Notice of Advisory committee public meeting and request for public comment; correction.

SUMMARY: USAID published a document in the Federal Register of May 1, 2023, concerning the public meeting on May 24 and request for public comments. The document contained incorrect timing of the event.

FOR FURTHER INFORMATION CONTACT: Sophia Lajaunie, Designated Federal Officer for ACVFA, at slajaunie@usaid.gov or 202-531-9819.

SUPPLEMENTARY INFORMATION:

Corrections

In the Federal Register of May 1, 2023 in FR Doc. 2023-09172, on page 26516: Correct the Summary caption to read:

Pursuant to the Federal Advisory Committee Act (FACA), notice is hereby given of Advisory Committee on Voluntary Foreign Aid (ACVFA) public meeting on Wednesday, May 24, 2023 from 10:30 a.m.-12:00 p.m. ET.

And correct the second paragraph in the Supplementary information section to read: Pursuant to its charter, ACVFA is holding an annual public meeting on May 24, 2023, from 10:30 a.m.-12:00 p.m. ET. This meeting is free and open to the public. The Committee welcomes public participation and comment before, during, and after the meeting via the web and/or email addresses provided above.

Dated: May 11, 2023.
Sophia Lajaunie,
ACVFA Designated Federal Officer.

[FR Doc. 2023-10393 Filed 5-15-23; 8:45 am]

BILLING CODE 6116-01-P